ENVIRONMENTAL PROTECTION AGENCY

[ER-FRL-6626-8]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated May 18, 2001 (66 FR 27647).

Draft EISs

ERP No. D-AFS-J65357-MT Rating EC2, White Pine Creek Project, Timber Harvest, Prescribe Fire Burning, Watershed Restoration and Associated Activities, Implementation, Kootenai National Forest, Cabinet Ranger District, Sanders County, MT.

Summary: EPA expressed environmental concerns about increased peak flow from proposed timber harvest and impacts to the threatened bull trout. A biological assessment for the bull trout should have been included in the DEIS. EPA believes additional information is needed to fully assess and mitigate all potential impacts of the management actions.

ERP No. D-FRC-B05192-ME Rating EC2, Presumpscot River Projects, Relicensing of Five Hydroelectric Projects for Construction and Operation, Dundee Project (FERC No. 2942); Gambo Project (FERC No. 2931); Little Falls Project (FERC No. 2932); Mallison Falls Project (FERC No. 2941) and Saccarappa Project (FERC No. 2897), Cumberland County, ME.

Summary: EPA expressed environmental concerns about the absence of fish passage measures for anadromous fish for portions of the project, and that the EIS understated the effect of dam removal in combination with adequate fish passage on restoration of aquatic resources/water quality of the river. EPA also believes that FERC recommended bypass flows are too low and should be raised year round to increase habitat for fish, aquatic invertebrates and resident fish so water quality standards are met.

ERP No. DS-AFS-J65295-MT Rating EC2, Clancy-Unionville Vegetation Manipulation and Travel Management Project, Updated and New Information concerning Cumulative Effects and Introduction of Alternative F, Clancy-Unionville Implementation Area, Helena National Forest, Helena Ranger District, Lewis and Clark and Jefferson Counties, MT.

Summary: EPA expressed environmental concerns regarding the levels of road rehabilitation. EPA recommended that additional information should be presented regarding increased road rehabilitation and consistency of proposed actions with State TMDL development.

ERP No. DS-AFS-L65376-OR Rating EC2, Silvies Canyon Watershed Restoration Project, Additional Information concerning Ecosystem Health Improvements in the Watershed, Grant and Harney Counties, OR.

Summary: EPA expressed environmental concerns with impacts to air quality and concerns about insufficient disclosure of tribal consultation and coordination.

Final EISs

ERP No. F-FRC-B03012-00, Phase III/Hubline Project, Construction and Operation a Natural Gas Pipeline, Maritimes and Northeast Pipeline (Docket No. CP01-4-000), Algonquin Gas Transmission (Docket No. CP01-5-000) and Texas Eastern Transmission (Docket No. CP01-8-000), MA and CT.

Summary: EPA expressed environmental concerns about impacts to water supply sources and about mitigation associated with the project. EPA also expressed concerns about NEPA process related issues.

ERP No. F-FTA-B59001-CT, New Britain—Hartford Busway Project, Proposal to Build an Exclusive Bus Rapid Transit (BRT) Facility, Located in the Towns/Cities of New Britain, Newington, West Hartford and Hartford CT.

Summary: EPA expressed a lack of environmental objections to the project and applauded the FTA/CTDOT decision to construct a multi-use path as part of the project and continues to suggest that the vehicles on the busway should use alternative fuel or be cleaner diesel vehicles that use particulate filters. EPA also encouraged FTA/CTDOT to commit resources to support transit oriented development in the vicinity of the busway stations.

ERP No. F-USN-B11024-MA, South Weymouth Naval Air Station, Disposal and Reuse, Norfolk and Plymouth Counties, MA.

Summary: EPA continues to have environmental concerns about impacts of the project related to traffic/air quality, water supply, wastewater treatment and land use and associated mitigation. EPA continued to encourage the Navy to consider mechanisms (smart growth and others) to determine whether the base redevelopment could occur in a manner that would result in fewer environmental impacts.

Dated: February 19, 2002.
Joseph C. Montgomery,
Director, NEPA Compliance Division, Office of Federal Activities.

[FR Doc. 02-4270 Filed 2-21-02; 8:45 am]

BILLING CODE 6560-50-P